ENVIRONMENTAL PROTECTION AGENCY

[EPA-HQ-OAR-2023-0121; FRL-12493-01-OMS]

Agency Information Collection Activities; Submission to the Office of Management and Budget for Review and Approval; Comment Request; Comment Request; NSPS for Small Industrial-Commercial-Institutional Steam Generating Units (Renewal)

AGENCY: Environmental Protection Agency (EPA).

ACTION: Notice.

SUMMARY: The Environmental Protection Agency (EPA) has submitted an information collection request (ICR), NSPS for Small Industrial-Commercial-Institutional Steam Generating Units (EPA ICR Number 1564.12, OMB Control Number 2060-0202) to the Office of Management and Budget (OMB) for review and approval in accordance with the Paperwork Reduction Act. This is a proposed extension of the ICR, which is currently approved through December 31, 2024. Public comments were previously requested via the Federal Register (88 FR 31748) on May 18, 2023 during a 60-day comment period. This notice allows for an additional 30 days for public comments.

DATES: Additional comments may be submitted on or before January 17, 2025.

ADDRESSES: Submit your comments, referencing Docket ID Number EPA-HQ-OAR-2023-0121, to EPA online using https://www.regulations.gov/ (our preferred method), by email to a-and-r-docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: This is a proposed extension of the ICR, which is currently approved through December 31, 2024. An agency may not conduct or sponsor and a person is not required to respond to a collection of information unless it displays a currently valid OMB control number.

Public comments were previously requested via the Federal Register on April 23, 2024, during a 60-day comment period (89 FR 30358). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The New Source Performance Standards (NSPS) for Small Industrial-Commercial-Institutional Steam Generation Units (40 CFR part 60, subpart Dc) were proposed on June 9, 1989; promulgated on September 12, 1990; and amended last on February 16, 2012. These regulations apply to existing facilities and new industrial-commercial-institutional steam generating units with a maximum design heat input capacity of 29 megawatts (MW) (100 MMBtu/hr) or less, but greater than or equal to 2.9 MW (10 MMBtu/hr), commencing construction, modification, or reconstruction after June 9, 1989. New facilities include those that commenced construction, modification or reconstruction after the date of the proposal. This information is being collected to assure compliance with 40 CFR part 60, subpart Dc.

Form Numbers: None.

Respondents/affected entities: Small industrial-commercial-institutional steam generators.

Respondent's obligation to respond: Mandatory (40 CFR part 60, subpart Dc).

Estimated number of respondents: 356 (total).

Frequency of response: Semiannually.

Total estimated burden: 241,000 hours (per year). Burden is defined at 5 CFR 1320.3(b).

Total estimated cost: $51,700,000 (per year), includes $21,300,000 annualized capital or operation & maintenance costs.

Changes in the Estimates: There is an adjustment increase in the respondent burden, and capital and O&M costs from the most-recently approved ICR. This increase is not due to any program changes. The change in burden and costs is due to an increase in the number of respondents. This ICR assumes an industry growth rate of 11 respondents per year, or an increase of 33 respondents, since the last ICR renewal period, which results in an increase in burden and the number of responses submitted. The industry growth also results in an increase in capital O&M costs. There is also an increase in costs, due to the use of updated labor rates. This ICR uses labor rates from the most recent Bureau of Labor Statistics report (September 2022) to calculate respondent burden costs. There is an additional increase in capital and O&M costs due to an adjustment to increase from 2007 to 2022 $ using the CEPCI Equipment Cost Index.

Courtney Kerwin,
Director, Information Engagement Division.

[FR Doc. 2024-29965 Filed 12-17-24; 8:45 am]

BILLING CODE 6560-50-P